DEPARTMENT OF HEALTH AND HUMAN SERVICES

Administration for Children and Families

[DHHS/ACF/ADD/FY03-01]

Developmental Disabilities: Notice of Availability of Financial Assistance and Request for Applications To Fund Family Support Model Demonstration Projects Under the Projects of National Significance Program

CFDA: Federal Catalog of Domestic Assistance Number 93.631 Developmental Disabilities—Projects of National Significance.

AGENCY: Administration on Developmental Disabilities (ADD), ACF, DHHS.

ACTION: Announcement of availability of financial assistance for Family Support Demonstration Projects for fiscal year 2003.

SUMMARY: The Administration on Developmental Disabilities, Administration for Children and Families (ACF), is accepting applications for fiscal year 2003 Family Support Demonstration Projects.

This Program Announcement DHHS/ACF/ADD/FY03-01 consists of five parts. Part I, the Introduction, discusses the goals and objectives of ACF and ADD. Part II provides background information on ADD for applicants. Part III describes the application review process. Part IV describes the priority area under which ADD requests applications for fiscal year 2003 funding of projects. Part V describes the process for preparing and submitting the application.

Grants will be awarded under this Program Announcement subject to the availability of funds for support of these activities.

DATES: The closing date for submittal of applications under this announcement is August 4, 2003.

Deadline

Applications Submitted by Mail

Mailed applications shall be considered as meeting the announced deadline if they are received on or before the deadline date at the U.S. Department of Health and Human Services, ACF/Office of Grants Management, 370 L'Enfant Promenade, SW., 8th Floor, Washington, DC 20447-0002, Attention: Lois B. Hodge. Applications received after 4:30 p.m. on the deadline date will not be considered for competition.

Application Submitted by Courier

Applications hand-carried by applicants, applicant couriers, other representatives of the applicant, or by overnight/express mail couriers shall be considered as meeting an announced deadline if they are received on or before the deadline date, between the hours of 8 a.m. and 4:30 p.m., e.s.t., Monday through Friday (excluding Federal holidays), at the U.S. Department of Health and Human Services, ACF/Office of Grants Management, ACF Mailroom, 2nd Floor (near Loading Dock), Aerospace Center, 901 D Street, SW., Washington, DC 20024. Applicants using express/overnight services should allow two working days (Monday through Friday, excluding holidays) prior to the deadline date for receipt of applications. (Note to applicants: Express/overnight mail services do not always deliver at the time to which they agreed.)

Receipt of Applications

Applications must either be hand delivered or mailed to the addresses listed above (under Deadline). Notification will not be sent to applicants regarding the receipt of their application.

ACF cannot accommodate transmission of applications by fax or through other electronic media. Applications transmitted electronically will not be accepted. Videotapes and cassette tapes may not be included as part of a grant application for panel review.

Additional material will not be accepted, or added to an application, unless it is received by the deadline date.

Closed Captioning for Audiovisual Efforts

Applicants must include closed captioning and audio description in the development of any audiovisual products.

Late Applications

Applications that do not meet the criteria above are considered late applications. ADD shall notify each late applicant that its application will not be considered in the current competition.

Extension of Deadlines

The Administration for Children and Families (ACF) may extend application deadlines when circumstances such as acts of God (e.g., floods, hurricanes) occur, or when there is widespread disruption of the mail service. Determinations to extend or waive deadline requirements rest with the Chief Grants Management Officer.

Notice of Intent to Submit Application: If you intend to submit an application, under this announcement, please contact, Joan Rucker of ADD at (202) 690-7898 within 15 days of the date of this announcement. Please give your organization's name and address, and your contact person's name, phone and fax numbers, and e-mail address.

The information will be used to determine the number of expert reviewers needed and to update the mailing list for program announcements.

FOR FURTHER INFORMATION CONTACT: For information about the application process, program information and application materials contact, Administration for Children and Families (ACF), Lois Hodge, Grants Officer, 370 L'Enfant Promenade, SW., Washington, DC, 20447, 202/401-2344, lhodge@acf.hhs.gov, or Joan Rucker, Program Specialist, 370 L'Enfant Promenade, SW., Washington, DC, 20447, 202/690-7898, jrucker@acf.hhs.gov. Copies of this program announcement and many of the required forms may be obtained electronically at the ADD World Wide Web page: http://www.acf.dhhs.gov/programs/add/.

Project Duration: The projects will be awarded for a project period of up to seventeen (17) months.

Federal Share of Project Costs: The maximum Federal shares for applicants requesting planning funds shall not exceed $200,000 for a state or $100,00 for a territory for the budget period. The maximum Federal shares for applicants requesting development funds shall not exceed $100,000 for a state and not to exceed $50,000 for a territory.

Anticipated Number of Projects to be Funded: It is anticipated that up to 14 projects will be funded.

SUPPLEMENTARY INFORMATION:

Part I. General Information

A. Goals of the Administration on Developmental Disabilities

The Administration on Developmental Disabilities (ADD) is located within the Administration for Children and Families (ACF), Department of Health and Human Services (DHHS). ADD shares goals with other ACF programs that promote the economic and social well being of families, children, individuals, and communities. ACF and ADD envision:

• Families and individuals empowered to increase their own economic independence and productivity;

• Strong, healthy, supportive communities having a positive impact on the quality of life and the development of children;

• Partnerships with individuals, front-line service providers, communities, States, and Congress that enable solutions that transcend traditional agency boundaries;

• Services planned and integrated to improve client access;

• A strong commitment to working with Native Americans, persons with developmental disabilities, refugees, and migrants to address their needs, strengths and abilities;

• A recognition of the power and effectiveness of public-private partnerships, including collaboration among community groups, such as faith-based organizations, families, and public agencies; and

• A community-based approach that recognizes and expands on the resources and benefits of diversity.

These goals will enable individuals, including people with developmental disabilities, to live productive and independent lives integrated into their communities.

B. Purpose of the Administration on Developmental Disabilities

The Administration on Developmental Disabilities (ADD) is the lead agency within ACF and DHHS responsible for planning and administering programs to promote the self-sufficiency and protect the rights of persons with developmental disabilities. ADD administers the Developmental Disabilities Assistance and Bill of Rights Act of 2000 (the DD Act of 2000). The DD Act defines developmental disabilities, reauthorizes four major programs under ADD, authorizes States to provide advocacy, promote consumer oriented systems change and capacity building activities and facilitates network formations.

This Act supports and provides assistance to States, public, private non-profit agencies, and organizations, including faith-based organizations, to assure that individuals with developmental disabilities and their families participate in the design of and have access to culturally competent services, supports, and other assistance and opportunities that promote independence, productivity, integration, and inclusion into the community.

The Act establishes, in part, as the policy of the United States:

• Individuals with developmental disabilities have competencies, capabilities and personal goals that should be recognized, supported, and encouraged, and any assistance to such individuals should be provided in an individualized manner, consistent with the unique strengths, resources, priorities, concerns, abilities, and capabilities of the individual;

• Individuals with developmental disabilities and their families are the primary decision makers regarding the services and supports such individuals and their families receive; and play decision making roles in policies and programs that affect the lives of such individuals and their families; and

• Services, supports, and other assistance should be provided in a manner that demonstrates respect for individual dignity, personal preference, and cultural differences. Toward these ends, ADD seeks: to enhance the capabilities of families in assisting people with developmental disabilities to achieve their maximum potential; to support the increasing ability of people with developmental disabilities to exercise greater choice and self-determination; to engage in leadership activities in their communities; as well as to ensure the protection of their legal and human rights.

The four programs funded under the DD Act are:

(1) State Councils on Developmental Disabilities that engage in advocacy, capacity building and systematic change activities.

(2) Protection and Advocacy Systems (P&As) that protect the legal and human rights of individuals with developmental disabilities.

(3) The National Network of University Centers for Excellence in Developmental Disabilities, (UCEDD) that engages in training, outreach, and dissemination activities.

(4) Projects of National Significance (PNS), including Family Support Grants that support the development of family-centered and directed systems for families of children with disabilities, including children with developmental disabilities.

C. Statutory Authorities Covered Under This Announcement

This announcement is covered under the Developmental Disabilities Assistance and Bill of Rights Act of 2000, 42 U.S.C. 15001, et seq. Projects of National Significance is Part E of the Developmental Disabilities Assistance and Bill of Rights Act of 2000, 42 U.S.C. 15081, et seq. Provisions under this section provide for the award of grants, contracts, or cooperative agreements for Projects of National Significance that support:

• The development of national and State policies that reinforce and promote the self-determination, independence, productivity, integration, and inclusion in all facets of community life of individuals with developmental disabilities;

• Family support activities, data collection and analysis, technical assistance to entities that provide family support and data collection activities; and

• Other projects of sufficient size and scope that hold promise to expand or improve opportunities for individuals with developmental disabilities.

Part II. Background Information for Applicants

Description of Family Support Program

The Developmental Disabilities Assistance and Bill of Rights Act of 2000, 42 U.S.C., et seq. was authorized on October 30, 2000. The DD Act includes a new title II, the “Families of Children With Disabilities Support Act of 1999”. The purpose of this new family support program is for states to create or expand statewide systems change. It allows for the award of competitive grants to conduct training, technical assistance, and other national activities designed to address the problems that impede the self-sufficiency of families with children with disabilities, including children with developmental disabilities.

Part III. The Application Review

A. Eligible Applicants

Eligible applicants include any public or private non-profit organization, including State and local governments, Federally recognized Indian tribes, faith-based organizations, and private nonprofit organization including universities and other institutions of higher education designated by the governor or chief executive officer of the State as the lead agency for this project. A letter from the office of the governor or the chief executive officer designating the applicant as the lead agency for the State or Territory must accompany the application. This lead agency is responsible for coordinating the planning, development, implementation (or expansion and enhancement), and evaluation of a statewide system of family support services for families of children with disabilities, including children with developmental disabilities.

All applications developed jointly by more than one agency or organization must identify only one organization as the lead organization and the official applicant. The other participating agencies and organizations can be included as co-participants, subgrantees, or subcontractors.

Any nonprofit organization submitting an application must submit proof of its non-profit status in its application at the time of submission. The non-profit agency can accomplish this by submitting a copy of the applicant's listing in the Internal Revenue Service's (IRS) most recent list of tax-exempt organizations described in section 501(c)(3) of the IRS code, or by providing a copy of a valid IRS tax exemption certificate, or by providing a copy of the articles of incorporation certifying nonprofit status and bearing the seal of the State in which the corporation is located. ADD cannot fund a non-profit applicant without acceptable proof of its nonprofit status.

Applicants, who have never received a Family Support grant, may submit an application for a planning grant. Applicants who have not been previously awarded family support planning grants are eligible for family support development grants under this announcement.

Before applications under this Program Announcement are reviewed, each one will be screened to determine whether the applicant is eligible for funding. Applications from organizations that do not meet eligibility requirements will not be considered or reviewed in the competition, and the applicant will be so informed.

B. Review Process and Funding Decisions

Applications from eligible applicants received by the deadline date will be reviewed and scored by a panel of at least three (3) reviewers (primarily experts in the field from outside the Federal Government). To facilitate this review, applicants should ensure that they address each minimum requirement in the program description under each section of the project Narrative Statement.

Reviewers will determine the strengths and weaknesses of each application in terms of the evaluation criteria listed in part IV, provide comments, and assign numerical scores. The point value following each criterion heading indicates the maximum numerical weight that each applicant may receive per section in the review process. The results of this review are a primary factor in making funding decisions.

ADD reserves the option of discussing applications with, or referring them to, other Federal or non-Federal funding sources when this is determined to be in the best interest of the Federal Government or the applicant.

Grantees funded by ADD may be requested to cooperate in evaluation efforts funded by ADD. The purpose of these evaluation activities is to learn from the combined experience of multiple projects funded under a particular program description.

ADD requires all applications to focus on or feature: Services to culturally diverse or ethnic populations among others; a substantially innovative strategy with the potential to improve theory or practice in the field of human services; a model practice or set of procedures that holds the potential for replication by organizations administering or delivering human services; substantial involvement of volunteers; substantial involvement (either financial or programmatic) of the private sector; a favorable balance between Federal and non-Federal funds available for the proposed project; the potential for high benefit for low Federal investment; a programmatic focus on those most in need; or substantial involvement in the proposed project by national or community foundations.

Applications that are more clearly focused on, and directly responsive to, the concerns of the program description usually score better than those that are less specific and generally defined. Applicants are encouraged to tailor their responses according to the specific requirements of the program description.

To the greatest extent possible, efforts will be made to ensure that funding decisions reflect an equitable distribution of assistance among the States and geographical regions of the country and rural and urban areas. In making these decisions, ADD may also take into account the need to avoid unnecessary duplication of effort.

C. Available Funds

ADD intends to award new grants resulting from this announcement during the fourth quarter of fiscal year 2003. Up to $1.5 million in Federal funds will be available to support these projects this fiscal year.

The term “budget period” refers to the interval of time (usually 12 months) into which a multi-year period of assistance (project period) is divided for budgetary and funding purposes. The term “project period” refers to the total time a project is approved for support, including any extensions.

D. Grantee Share of Project Costs

Grantees must provide at least 25 percent of the total approved cost of the project. The total approved cost of the project is the sum of the ACF share and the non-Federal share. Cash or in-kind contributions may meet the non-Federal share, although applicants are encouraged to meet their match requirements through cash contributions. Therefore, a project requesting $100,000 in Federal funds (based on an award of $100,000 per budget period) must include a match of at least $33,333 (total project cost is $133,333, of which $33,333 is 25 percent).

An exception to the grantee cost-sharing requirement relates to applications originating from American Samoa, Guam, the Virgin Islands, and the Commonwealth of the Northern Mariana Islands. Applications from these areas are covered under section 501(d) of Pub. L. 95-134, as amended, which requires that the Department waive any requirement for local matching funds for grants under $200,000.

The applicant contribution must generally be secured from non-Federal sources. Except as provided by Federal statute, a cost sharing or matching requirement may not be met by costs borne by another Federal grant. However, funds from some Federal programs benefiting tribes and Native American organizations have been used to provide valid sources of matching funds. If this is the case for a tribe or Native American organization submitting an application to ADD, that organization should identify the programs which will be providing the funds for the match in its application. If the application successfully competes for PNS grant funds, ADD will determine whether there is statutory authority for this use of the funds. The Administration for Native Americans and the DHHS Office of General Counsel will assist ADD in making this determination.

E. General Instructions for the Uniform Project Description

The following ACF Uniform Project Description (UPD) has been approved under OMB Control Number 0970-0139.

Applicants required to submit a full project description should prepare the project description statement in accordance with the following instructions.

Project summary/abstract: Provide a summary of the project description (a page or less) with reference to the funding request.

Objectives and need for assistance: Clearly identify the physical, economic, social, financial, institutional, or other problem(s) requiring a solution. The need for assistance must be demonstrated and the principal and subordinate objectives of the project must be clearly stated; supporting documentation, such as letters of support and testimonials from concerned interests other than the applicant, may be included. Any relevant data based on planning studies should be included or referred to in the endnotes/footnotes. Incorporate demographic data and participant/beneficiary information, as needed. In developing the project description, the applicant may volunteer or be requested to provide information on the total range of projects currently being conducted and supported (or to be initiated), some of which may be outside the scope of the program announcement.

Results or benefits expected: Identify the results and benefits to be derived. For example, extent to which the application is consistent with the objectives of the application, and the extent to which the application indicates the anticipated contributions to policy practice, theory and research. Extent to which the proposed project cost is reasonable in view of the expected results.

Approach: Outline a plan of action that describes the scope and detail of how the proposed work will be accomplished. Account for all functions or activities identified in the application. Cite factors that might accelerate or decelerate the work and state your reason for taking the proposed approach rather than others. Describe any unusual features of the project such as design or technological innovations, reductions in cost or time, or extraordinary social and community involvement.

Provide quantitative monthly or quarterly projections of the accomplishments to be achieved for each function or activity in such terms as the number of people to be served and the number of activities accomplished. When accomplishments cannot be quantified by activity or function, list them in chronological order to show the schedule of accomplishments and their target dates. If any data are to be collected, maintained, and disseminated, clearance may be required from the U.S. Office of Management and Budget (OMB). This clearance pertains to any “collection of information that is conducted or sponsored by ACF.” List organizations, cooperating entities, consultants, or other key individuals who will work on the project along with a short description of the nature of their effort or contribution.

Organizational Profile: Provide information on the applicant organization(s) and cooperating partners such as with organizational charts, financial statements, audit reports or statements from CPAs/Licensed Public Accountants, Employer Identification Numbers, names of bond carriers, contact persons and telephone numbers, child care licenses and other documentation of professional accreditation, information on compliance with Federal/State/local government standards, documentation of experience in the program area, and other pertinent information. Any non-profit organization submitting an application must submit proof of its non-profit status in its application at the time of submission. The non-profit agency can accomplish this by providing a copy of the applicant's listing in the Internal Revenue Service's (IRS) most recent list of tax-exempt organizations described in section 501(c)(3) of the IRS code, or by providing a copy of the currently valid IRS tax exemption certificate, or by providing a copy of the articles of incorporation bearing the seal of the State in which the corporation or association is domiciled.

Budget and Budget Justification: Provide line item detail and detailed calculations for each budget object class identified on the Budget Information form. Detailed calculations must include estimation methods, quantities, unit costs, and other similar quantitative detail sufficient for the calculation to be duplicated. The detailed budget must also include a breakout by the funding sources identified in Block 15 of the SF-424.

Provide a narrative budget justification that describes how the categorical costs are derived. Discuss the necessity, reasonableness, and allocability of the proposed costs.

Part IV. Fiscal Year 2003 Families of Children with Disabilities Support Projects—Description and Requirements

Purpose: Project funds must be used to support the planning and development of family support activities contributing to the self-determination, independence, productivity, and integration and inclusion in all facets of community life of such individuals. Projects will:

(1) Ensure the full participation, choice and control of families of children with disabilities, including children with developmental disabilities, in decisions related to the provision of such family support for their family;

(2) Ensure the active involvement of families of children with disabilities, including children with developmental disabilities, in the planning, development, implementation, and evaluation of the project; increase the availability of, funding for, access to, and provision of family support for families of children with disabilities, including children with developmental disabilities;

(3) Promote training activities that are family-centered and family-directed and that enhance the ability of family members of children with disabilities, including children with developmental disabilities, to increase participation, choice, and control in the provision of family support for families of children with disabilities, including children with developmental disabilities;

(4) Increase and promote interagency coordination among State agencies, and between State agencies and private entities that are involved in these projects; and

(5) Increase the awareness of laws, regulations, policies, practices, procedures, and organizational structures that facilitate or impede the availability or provision of family support for families of children with disabilities, including children with developmental disabilities.

Background Information: Promoting family support for families with a child with a disability is a new phase in the evolution of Federal disability policy. Historically, families with a child with a severe disability would only receive support once the child was placed in a state institution. In recent decades, disability policies have progressed to promote a more family-centered approach to service provision; indeed, many States have or have initiated family support legislation. This accomplishment is often the result of initiatives developed by the State Developmental Disabilities Councils. Currently, all the States and the District of Columbia offer some type of family support program. This support consists of any community-based service administered or financed by the State mental retardation/developmental disabilities agency providing for vouchers, direct cash payments to families, reimbursement, or direct payments to service providers that the State agency itself identified as family support. A broad range of services fall within family support including—cash subsidy payments, respite care, family strengthening through such services as parenting education and marriage education, architectural adaptation of the home, in-home counseling, sibling support programs, education and behavior management services, and the purchase of specialized equipment. Family support is a growing expenditure in State budgets. Family support expenditures advanced from $569 million for 279,266 families in 1996 to $1.0 billion for 385,414 families in 2000. Family support spending constituted 3.6 percent of total MR/DD State resources in 2000, up from 2.3 percent in 1996. All 50 States reported a family support initiative in either cash subsidy, or other family support activity. (Braddock, D., Hemp, R., Rizzolo, M.C., Parish, S. & Pomeranz, A. (The State of the States in Developmental Disabilities: 2002 Study Summary. Boulder, CO: Coleman Institute for Cognitive Disabilities & Department of Psychiatry, University of Colorado).

The Federal government's involvement in family support began in 1982 with what is known as the “Katie Beckett Waiver.” This provision amended the Medicaid law to give States the option to waive the deeming of parental income and resources for any child 18 years of age and under who is eligible for placement in a Medicaid certified long-term care institution or hospital, ICF/MR or nursing home. This waiver allows parents access to an array of family, home and community supports. Many States use this option, which requires States to determine that (1) the child requires the level of care provided in an institution; (2) it is appropriate to provide care outside the facility; and (3) the cost of care at home is no more than the cost of institutional care. In States that use this option, parents may choose either institutional or community care for their Medicaid eligible children.

Federal disability policy in the 1980s increasingly began to reflect the principles of family-centered, community-based, coordinated care as Federal programs were established or reauthorized. Among these were:

(1) The Temporary Respite Care and Crisis Nurseries Act of 1986 that funded a variety of in-home and out-of-home respite programs;

(2) A new part H for infants, toddlers, and their families was added in 1986 to the Education of the Handicapped Act; (as of 1997, part C of the Individuals with Disabilities Education Act (IDEA));

(3) The reauthorization of the Maternal and Child Health Care Block grant in 1989 emphasized these principles in its Children with Special Health Care Needs program; and

(4) A definition of family support services was added in 1990 to the Developmental Disabilities Assistance and Bill of Rights Act.

Minimum Requirements for Project Design: ADD requires grant funds to be used to support the development of State policies that reinforce and promote, with the support of families, guardians, advocates, and communities, of individuals with developmental disabilities, the self-determination, independence, productivity and integration and inclusion in all facets of community life of such individuals through family support activities. Project activities should accomplish any of the following:

• Establishment of a State Policy Council of families with children with disabilities, including children with developmental disabilities, or utilize an existing council which will advise and assist the lead entity in the performance of activities under the project. The State Policy Council shall be composed of a majority of participants who are family members of children with disabilities, including children with developmental disabilities, or who are youth with disabilities (ages 18-21), or qualify under both categories;

• Training and technical assistance for family members, service providers, community members, professionals, members of the Policy Council, State agency staff, students and others;

• Interagency coordination of Federal and State policies, resources, and services; interagency workgroups to enhance public funding options and coordination; and other interagency activities that promote coordination;

• Outreach to locate families who are eligible for family support and to identify groups who are underserved or unserved;

• Policy studies that relate to the development and implementation, or expansion and enhancement, of a statewide system of family support for families of children with disabilities, including children with developmental disabilities;

• Hearings and forums to solicit input from families of children with disabilities, including children with developmental disabilities, regarding family support programs, policies, and plans for such families;

• Public awareness and education to families of children with disabilities, including children with developmental disabilities, parent groups and organizations, public and private agencies, students, policymakers, and the general public;

• Needs assessment;

• Data collection and analysis related to the statewide system of family support for families of children with disabilities, including children with developmental disabilities;

• Implementation plans to utilize generic community service organizations in innovative partnerships to include families of children with disabilities, including children with developmental disabilities;

• Pilot demonstration projects to demonstrate new approaches to the provision of family support for families of children with disabilities, including children with developmental disabilities, including family strengthening services such as parenting education and marriage education;

• An evaluation system using measurable outcomes based on family satisfaction indicators. Indicators include the extent to which a service or support meets a need, solves a problem, or adds value for a family, as determined by the individual family.

ADD expects to fund applications that include or incorporate into these activities one or more of the following populations relevant to their State: (1) Unserved and underserved populations that include populations such as individuals from racial and ethnic minority backgrounds, economically disadvantaged individuals, individuals with limited-English proficiency, and individuals from underserved geographic areas (rural or urban); (2) aging families of adult children with disabilities, including children with developmental disabilities, who are over age 21 with a focus on assisting those families and their adult child to be included as self-determining members of their communities; (3) foster/adoptive families of children with disabilities, including children with developmental disabilities; (4) families participating in the State's Temporary Assistance to Needy Families Program (TANF) , welfare-to-work, and/or SSI program; (5) veterans with families having a child with a developmental disability; (6) parents with developmental disabilities, especially with cognitive disabilities, having children with or without disabilities; and (7) families of children with developmental disabilities who have behavioral/emotional issues.

ADD intends to fund those applications that describe how the project will:

• Ensure consumer/self-advocate orientation and participation;

• Include key project personnel with direct life experience living with a disability;

• Have strong advisory components that consist of a majority of individuals with disabilities and a structure where individuals with disabilities make real decisions that determine the outcome of the grant;

• If the project includes research, reflect the principles of participatory action;

• Consider cultural competency (“cultural competency” as defined in the DD Act as—services, supports, or other assistance that is conducted or provided in a manner that is responsive to the beliefs, interpersonal styles, attitudes, language, and behavior of individuals who are receiving the services, supports or other assistance, and in a manner that has the greatest likelihood of ensuring their maximum participation in the program involved);

• Allow individuals with disabilities and their families to be involved in all aspects of the design, implementation, and evaluation of the project;

• Attend to unserved and inadequately served individuals, having developmental disabilities, from mild to severe, from multicultural backgrounds, rural and inner-city areas, migrant, homeless, and refugee families, with severe disabilities;

• Comply with the Americans with Disabilities Act, if applicable, and Section 504 of the Rehabilitation Act of 1973 as amended by the Rehabilitation Act amendments of 1998 (Pub. L. 105-220);

• Use collaboration through partnerships and coalitions;

• Develop the capacity to communicate and disseminate information and technical assistance through E-mail and other effective, affordable, and accessible forms of electronic communication;

• Develop and establish system change activities beyond project period; and

• Disseminate models, products, best practices, and strategies for distribution between networks and beyond.

Applications must also include provisions for the travel of a key staff person during the project period to Washington, DC.

Evaluation Criteria: Five (5) criteria will be used to review and evaluate each application under this announcement. Each criterion should be addressed in the project description section of the application. The point values indicate the maximum numerical weight possible for a criterion in the review process. The specific information to be included under each of these headings is described in section E of part III, General Instructions for the Uniform Project Description. Additional information that must be included is described below.

Criterion 1: Approach (Maximum 35 points)

Discuss the criteria to be used to evaluate the results, and explain the methodology that will be used to determine if the needs identified and discussed are being met and if the results and benefits identified are being achieved. Applicants are expected to present a plan that (1) reflects an understanding of the characteristics, needs and services currently available to the targeted population; (2) provides services that directly address the needs of the target population; (3) is evidence based and grounded in theory and practice; (4) is appropriate and feasible; (5) can be reliably evaluated; and (6) if successfully implemented, can be sustained after Federal funding has ceased.

The applicant must:

(1) Outline a plan of action pertaining to the scope and detail on how the proposed work will be accomplished for each project. Define goals and specific measurable objectives for the project (8 points);

(2) Identify the kinds of data to be collected and maintained, and discuss the criteria to be used to evaluate the results and success of the project. Describe how the proposed project will be evaluated to determine the extent to which it has achieved its stated goals and objectives; and whether the methods of evaluation include the use of performance measures that are clearly related to the intended outcome of the project (8 points);

(3) Describe any unusual features of the project, such as design or technological innovation, reductions in cost or time, or extraordinary social and community involvement (5 points);

(4) Provide for each assistance program quantitative projects of the accomplishments to be achieved, if possible. When accomplishments cannot be quantified, activities should be listed in chronological order to show the schedule of accomplishments and their target date (4 points);

(5) Describe the products to be developed during the implementation of the proposed project. This can include questionnaires, interview guides, data collection instruments, software, Internet applications, reports, article outcomes and evaluation results. Also present a dissemination plan for conveying the information (4 points);

(6) Cite factors which might accelerate or decelerate the work and provide reasons for taking this approach as opposed to others (3 points);

(7) List each organization, operator, consultant, or other key individual who will work on the project along with a short description of the nature of their effort of contribution (3 points).

Criterion 2: Objectives and Need for Assistance (Maximum 25 points)

The application must describe the context of the proposed demonstration project, including the geographic location, environment, magnitude and severity of the problem(s) to be solved and the needs to be addressed. Those eligible applicants applying for development funds, in addition to providing the following information, please submit a summary/abstract of the project goals and accomplishments during your planning grant.

The applicant must:

(1) Demonstrate the need for the assistance and state the principal and subordinate objectives for the project (10 points).

(2) Pinpoint any relevant physical, economic, social, financial, institutional, or other problems requiring a solution (5 points).

(3) Provide supporting documentation or other testimonies from concerned interests other than the applicant (5 points).

(4) Provide any relevant data based on planning studies (4 points); and

(5) Provide maps and other graphic aids (1 point).

Criterion 3: Results or Benefits Expected (Maximum 20 points)

Identify results and benefits to be derived. The anticipated contribution to policy, practice, theory and research should be indicated.

The applicant must:

(1) Clearly describe project benefits and results as they relate to the objectives of the project (10 points); and

(2) Provide information as to the extent to which the project will build on current theory, research, evaluation and best practices to contribute to increased knowledge of understanding the problems, issues or effective strategies and practices in family support (10 points).

Criterion 4: Organizational Profile (13 points)

This section should consist of a brief (two to three pages) background description of how the applicant organization (or the unit within the organization that will have responsibility for the project) is structured, the types and quantity of services, and the research and management capabilities it possesses. Applicants need to demonstrate that they have the capacity to implement the proposed project. Capacity includes (1) experience with similar projects; (2) experience with the target population; (3) qualifications and experience of the project leadership; (4) commitment to developing sustaining work among key stakeholders; (5) experience and commitment of any proposed consultants and subcontractors; and (6) appropriateness of the organizational structure, including its management information system, to carry out the project.

The applicant must:

(1) Identify the background of the project director/principal investigator and key project staff (including name, address, and training, educational background and other qualifying experience) and the experience of the organization to demonstrate the applicant's ability to effectively and efficiently administer this project; present brief resumes (4 points);

(2) Provide a brief background description of how the applicant organization is organized, the types and quantity of services it provides, and the research and management capabilities it possesses (4 points);

(3) Describe the competence of the project team and its demonstrated ability to produce a final product that is readily comprehensible and usable (3 points); and

(4) Provide an organization chart showing the relationship of the project to the current organization (2 points).

Criterion 5: Budget and Budget Justification (7 points)

Applicants are expected to present a budget with reasonable project costs, appropriately allocated across component areas, and sufficient to accomplish the objectives. The dollar amount requested must be fully justified and documented.

Applications must provide a narrative budget justification that describes how the categorical costs are derived and discuss the reasonableness and appropriateness of the proposed costs. Line item allocations and justifications are required for both Federal and non-Federal funds.

A letter of commitment of non-Federal resources must be submitted with the application in order to be given credit in the review process. A fully explained non-Federal share budget must be prepared for each funding source.

The applicant must:

(1) Discuss and justify the costs of the proposed project which are reasonable and programmatically justified in view of the activities to be conducted and the anticipated results and benefits (3 points);

(2) Describe the fiscal control and accounting procedures that will be used to ensure prudent use, proper disbursement, and accurate accounting of funds received under this program announcement (2 points); and

(3) Include a fully explained non-Federal share budget and its source(s) (2 points).

This year, an additional five (5) points will be awarded in scoring for any project that demonstrates in their application a partnership and collaboration with any of the 140 Empowerment Zones/Enterprise Communities. To receive the five points, the application must specify how the involvement of the EZ/EC is related to the objectives and activities of the project. The application must also include a letter from an authorized representative of the EZ/EC indicating its agreement to participate and describing its role in the project. Applications submitted for development funds must include a letter from the EZ/EC pledging its continued support.

Applicable Administrative Regulations

Applicable administrative regulations include 45 CFR part 74, Administration of Grants, for Institutions of Higher Education, non-profit organizations and Indian Tribal Governments; and 45 CFR part 92, Uniform Administrative Requirement for Grants and Cooperative Agreements to State and Local Governments.

Part V. Instructions for the Development and Submission of Applications

This part contains information and instructions for submitting applications in response to this announcement. Application forms and other materials can be obtained by any of the following methods: from Joan Rucker, ADD, 370 L'Enfant Promenade, SW., Washington, DC, 20447, 202/690-7898; http:// www.acf.dhhs.gov/programs/add; or from add@acf.dhhs.gov. Please copy and use these forms in submitting an application.

Potential applicants should read this section carefully in conjunction with the information contained in the program description in part IV of this announcement.

A. Required Notification of the State Single Point of Contact (SPOC)

This program is covered under Executive Order 12372, Intergovernmental Review of Department of Health and Human Services Program and Activities. Under this Order, States may design their own process for reviewing and commenting on proposed Federal assistance under covered programs. Note: State/territory participation in the intergovernmental review process does not signify applicant eligibility for financial assistance under a program. A potential applicant must meet the eligibility requirements of the program for which it is applying prior to submitting an application to its single point of contact (SPOC), if applicable, or to ACF.

All States and Territories, except Alabama, Alaska, Colorado, Connecticut, Hawaii, Idaho, Kansas, Louisiana, Massachusetts, Minnesota, Montana, Nebraska, New Jersey, Ohio, Oklahoma, Oregon, Palau, Pennsylvania, South Dakota, Tennessee, Vermont, Virginia, and Washington, have elected to participate in the Executive Order process and have established a State Single Point of Contact (SPOC). Applicants from these jurisdictions, or for projects administered by federally recognized Indian tribes, need not take any action regarding E.O. 12372. Otherwise, applicants should contact their SPOCs as soon as possible to alert them of the potential applications and to receive any necessary instructions.

Applicants must submit all required materials to the SPOC as soon as possible. This will enable the program office to obtain and to review SPOC comments as part of the award process. It is imperative that an applicant submits all required materials and indicate the date of the submittal (or date SPOC was contacted, if no submittal is required) on the SF 424, item 16a.

Under 45 CFR 100.8(a)(2), a SPOC has 60 days from the application due date to comment on proposed new or competing continuation awards. These comments are reviewed as part of the award process. Failure to notify the SPOC can result in delays in awarding grants.

SPOCs are encouraged to eliminate the submission of routine endorsements as official recommendations. Additionally, SPOCs are requested to clearly differentiate between mere advisory comments and those Official State process recommendations that may trigger the “accommodate or explain” rule.

When comments are submitted directly to ACF, they should be addressed to: Department of Health and Human Services, Administration for Children and Families, Office of Grants Management, 370 L'Enfant Promenade, SW., 8th Floor, Washington, DC 20447, Attn: 93.631 ADD—Projects of National Significance.

Contact information for each State's SPOC is found at the ADD website (http:// www. acf.dhhs.gov/programs/add) or by contacting Joan Rucker, ADD, 370 L'Enfant Promenade, SW., Washington, DC, 20447, 202/690-7898.

B. Notification of State Developmental Disabilities Planning Councils

A copy of the application must also be submitted for review and comment to the State Developmental Disabilities Council in each State in which the applicant's project will be conducted. A list of the State Developmental Disabilities Councils can be found at ADD's website: http://www.acf.dhhs.gov/programs/add or by contacting Joan Rucker, ADD, 370 L'Enfant Promenade, SW., Washington, DC 20447, 202/690-7898.

C. Instructions for Preparing the Application and Completing Application Forms

The SF 424, SF 424A, SF 424A-page 2 and Certifications/Assurances are contained in the application package that can be accessed as mentioned earlier in this announcement. Please prepare your application in accordance with the following instructions:

1. SF 424 Page 1, Application Cover Sheet

Please read the following instructions before completing the application cover sheet. An explanation of each item is included. Complete only the items specified.

Top of Page. Please indicate that you are applying for new or implementation funds.

Item 1. “Type of Submission”—Preprinted on the form.

Item 2. “Date Submitted” and “Applicant Identifier” —Date application is submitted to ACF and applicant's own internal control number, if applicable.

Item 3. “Date Received By State”—State use only (if applicable).

Item 4. “Date Received by Federal Agency”—Leave blank.

Item 5. “Applicant Information”.

“Legal Name”—Enter the legal name of applicant organization. For applications developed jointly, enter the name of the lead organization only. There must be a single applicant for each application.

“Organizational Unit”—Enter the name of the primary unit within the applicant's organization that will actually carry out the project activity. Do not use the name of an individual as the applicant. If this is the same as the applicant organization, leave the organizational unit blank.

“Address”—Enter the complete address that the organization actually uses to receive mail, since this is the address to which all correspondence will be sent. Do not include both street address and P.O. box number unless both must be used in mailing.

“Name and telephone number of the person to be contacted on matters involving this application (give area code)”—Enter the full name (including academic degree, if applicable) and telephone number of a person who can respond to questions about the application. This person should be accessible at the address given here and will receive all correspondence regarding the application.

Item 6. “Employer Identification Number (EIN)”—Enter the employer identification number of the applicant organization, as assigned by the Internal Revenue Service, including, if known, the Central Registry System suffix.

Item 7. “Type of Applicant”—Self-explanatory.

Item 8. “Type of Application”—Preprinted on the form.

Item 9. “Name of Federal Agency”—Preprinted on the form.

Item 10. “Catalog of Federal Domestic Assistance Number and Title”—Enter the Catalog of Federal Domestic Assistance (CFDA) number assigned to the program under which assistance is requested and its title. For ADD's priority area, the following should be entered, “93.631—Developmental Disabilities: Projects of National Significance.”

Item 11. “Descriptive Title of Applicant's Project”—Enter the project title. The title is generally short and is descriptive of the project, not the priority area title.

Item 12. “Areas Affected by Project”—Enter the governmental unit where significant and meaningful impact could be observed. List only the largest unit or units affected, such as State, county, or city. If an entire unit is affected, list it rather than subunits.

Item 13. “Proposed Project”—Enter the desired start date for the project and projected completion date.

Item 14. “Congressional District of Applicant/Project”—Enter the number of the Congressional district where the applicant's principal office is located and the number of the Congressional district(s) where the project will be located. If Statewide, a multi-State effort, or nationwide, enter “00.”

Items 15. Estimated Funding Levels. In completing 15a through 15f, the dollar amounts entered should reflect, for a 17-month or less project period, the total amount requested.

Item 15a. Enter the amount of Federal funds requested in accordance with the preceding paragraph. This amount should be no greater than the maximum amount specified in the priority area description.

Items 15b-e. Enter the amount(s) of funds from non-Federal sources that will be contributed to the proposed project. Items b-e are considered cost sharing or “matching funds.” The value of third party in-kind contributions should be included on appropriate lines as applicable. For more information regarding funding as well as exceptions to these rules, see part III, sections C and D.

Item 15f. Enter the estimated amount of program income, if any, expected to be generated from the proposed project. Do not add or subtract this amount from the total project amount entered under item 15g. Describe the nature, source and anticipated use of this program income in the Project Narrative Statement.

Item 15g. Enter the sum of items 15a-15e.

Item 16a. “Is Application Subject to Review By State Executive Order 12372 Process? Yes.”—Enter the date the applicant contacted the SPOC regarding this application. Select the appropriate SPOC from the listing provided online at www.whitehouse.gov/omb/grants/spoc.html. The review of the application is at the discretion of the SPOC. The SPOC will verify the date noted on the application.

Item 16b. “Is Application Subject to Review By State Executive Order 12372 Process? No.”—Check the appropriate box if the application is not covered by E.O. 12372 or if the program has not been selected by the State for review.

Item 17. “Is the Applicant Delinquent on any Federal Debt?”—Check the appropriate box. This question applies to the applicant organization, not the person who signs as the authorized representative. Categories of debt include audit disallowances, loans and taxes.

Item 18. “To the best of my knowledge and belief, all data in this application/preapplication are true and correct. The document has been duly authorized by the governing body of the applicant and the applicant will comply with the attached assurances if the assistance is awarded.” —To be signed by the authorized representative of the applicant. A copy of the governing body's authorization for signature of this application by this individual as the official representative must be on file in the applicant's office, and may be requested from the applicant.

Item 18a-c. “Typed Name of Authorized Representative, Title, Telephone Number”—Enter the name, title and telephone number of the authorized representative of the applicant organization.

Item 18d. “Signature of Authorized Representative”—Signature of the authorized representative named in Item 18a. At least one copy of the application must have an original signature. Use colored ink (not black) so that the original signature is easily identified.

Item 18e. “Date Signed”—Enter the date the application was signed by the authorized representative.

2. SF 424A—Budget Information—Non-Construction Programs

This is a form used by many Federal agencies. For this application, sections A, B, C, E and F are to be completed. Section D does not need to be completed.

Sections A and B should include the Federal as well as the non-Federal funding for the proposed project covering (1) the total project period of 17 months or less or (2) the first year budget period, if the proposed project period exceeds 15 months.

Section A—Budget Summary. This section includes a summary of the budget. On line 5, enter total Federal costs in column (e) and total non-Federal costs, including third party in-kind contributions, but not program income, in column (f). Enter the total of (e) and (f) in column (g).

Section B—Budget Categories. This budget, which includes the Federal as well as non-Federal funding for the proposed project, covers the total project period of 17 months or less. It should relate to item 15g, total funding, on the SF 424. Under column (5), enter the total requirements for funds (Federal and non-Federal) by object class category.

A separate budget justification should be included to fully explain and justify major items, as indicated below. The types of information to be included in the justification are indicated under each category. For multiple year projects, it is desirable to provide this information for each year of the project. The budget justification should immediately follow the second page of the SF 424A.

Personnel—Line 6a. Enter the total costs of salaries and wages of applicant/grantee staff. Do not include the costs of consultants; this should be included on line 6h, “Other.”

Justification: Identify the principal investigator or project director, if known. Specify by title or name the percentage of time allocated to the project, the individual annual salaries, and the cost to the project (both Federal and non-Federal) of the organization's staff who will be working on the project.

Fringe Benefits—Line 6b. Enter the total costs of fringe benefits, unless treated as part of an approved indirect cost rate.

Justification: Provide a break-down of amounts and percentages that comprise fringe benefit costs, such as health insurance, FICA, retirement insurance, etc.

Travel—6c. Enter total costs of out-of-town travel (travel requiring per diem) for staff of the project. Do not enter costs for consultant's travel or local transportation, which should be included on Line 6h, “Other.”

Justification: Include the name(s) of traveler(s), total number of trips, destinations, length of stay, transportation costs and subsistence allowances.

Equipment—Line 6d. Enter the total costs of all equipment to be acquired by the project. For State and local governments, including Federally recognized Indian tribes, “equipment” is tangible, non-expendable personal property having a useful life of more than one year and acquisition cost of $5,000 or more per unit.

Justification: Equipment to be purchased with Federal funds must be justified. The equipment must be required to conduct the project, and the applicant organization or its subgrantees must not have the equipment or a reasonable facsimile available to the project. The justification also must contain plans for future use or disposal of the equipment after the project ends.

Supplies—Line 6e. Enter the total costs of all tangible expendable personal property (supplies) other than those included on Line 6d.

Justification: Specify general categories of supplies and their costs.

Contractual—Line 6f. Enter the total costs of all contracts, including (1) procurement contracts (except those which belong on other lines such as equipment, supplies, etc.) and (2) contracts with secondary recipient organizations, including delegate agencies. Also include any contracts with organizations for the provision of technical assistance. Do not include payments to individuals on this line. If the name of the contractor, scope of work, and estimated total costs are not available or have not been negotiated, include on Line 6h, “Other.”

Justification: Attach a list of contractors, indicating the names of the organizations, the purposes of the contracts, and the estimated dollar amounts of the awards as part of the budget justification. Whenever the applicant/grantee intends to delegate part or the entire program to another agency, the applicant/grantee must complete this section (section B, Budget Categories) for each delegate agency by agency title, along with the supporting information. The total cost of all such agencies will be part of the amount shown on Line 6f. Provide backup documentation identifying the name of contractor, purpose of contract, and major cost elements.

Construction—Line 6g. Not applicable. New construction is not allowable.

Other—Line 6h. Enter the total of all other costs. Where applicable, such costs may include, but are not limited to: Insurance; medical and dental costs; noncontractual fees and travel paid directly to individual consultants; local transportation (all travel which does not require per diem is considered local travel); space and equipment rentals; printing and publication; computer use; training costs, including tuition and stipends; training service costs, including wage payments to individuals and supportive service payments; and staff development costs. Note that costs identified as “miscellaneous” and “honoraria” are not allowable.

Justification: Specify the costs included.

Total Direct Charges—Line 6i. Enter the total of Lines 6a through 6h.

Indirect Charges—6j. Enter the total amount of indirect charges (costs). If no indirect costs are requested, enter “none.” Generally, this line should be used when the applicant (except local governments) has a current indirect cost rate agreement approved by the Department of Health and Human Services or another Federal agency.

Local and State governments should enter the amount of indirect costs determined in accordance with DHHS requirements. When an indirect cost rate is requested, these costs are included in the indirect cost pool and should not be charged again as direct costs to the grant.

In the case of training grants to other than State or local governments (as defined in title 45, Code of Federal Regulations, part 74), the Federal reimbursement of indirect costs will be limited to the lesser of the negotiated (or actual) indirect cost rate or 8 percent of the amount allowed for direct costs, exclusive of any equipment charges, rental of space, tuition and fees, post-doctoral training allowances, contractual items, and alterations and renovations.

For training grant applications, the entry under line 6j should be the total indirect costs being charged to the project. The Federal share of indirect costs is calculated as shown above. The applicant's share is calculated as follows:

(a) Calculate total project indirect costs (a*) by applying the applicant's approved indirect cost rate to the total project (Federal and non-Federal) direct costs.

(b) Calculate the Federal share of indirect costs (b*) at 8 percent of the amount allowed for total project (Federal and non-Federal) direct costs exclusive of any equipment charges, rental of space, tuition and fees, post-doctoral training allowances, contractual items, and alterations and renovations.

(c) Subtract (b*) from (a*). The remainder is what the applicant can claim as part of its matching cost contribution.

Justification: Enclose a copy of the indirect cost rate agreement. Applicants subject to the limitation on the Federal reimbursement of indirect costs for training grants should specify this.

Total—Line 6k. Enter the total amounts of lines 6i and 6j.

Program Income—Line 7. Enter the estimated amount of income, if any, expected to be generated from this project. Do not add or subtract this amount from the total project amount.

Justification: Describe the nature, source, and anticipated use of program income in the Program Narrative Statement.

Section C—Non-Federal Resources. This section summarizes the amounts of non-Federal resources that will be applied to the grant. Enter this information on line 12 entitled “Totals.” In-kind contributions are defined in title 45 of the Code of Federal Regulations, parts 74.51 and 92.24, as “property or services which benefit a grant-supported project or program and which are contributed by non-Federal third parties without charge to the grantee, the subgrantee, or a cost-type contractor under the grant or subgrant.”

Justification: Describe third party in-kind contributions, if included.

Section D—Forecasted Cash Needs. Not applicable.

Section E—Budget Estimate of Federal Funds Needed for Balance of the Project. This section should only be completed if the total project period exceeds 17 months.

Totals—Line 20. For projects that will have more than one budget period, enter the estimated required Federal funds for the second budget period (months 13 through 24) under column “(b) First.” If a third budget period will be necessary, enter the Federal funds needed for months 25 through 36 under “(c) Second.” Columns (d) and (e) are not applicable in most instances, since ACF funding is almost always limited to a three-year maximum project period. They should remain blank.

Section F—Other Budget Information.

Direct Charges—Line 21. Not applicable.

Indirect Charges—Line 22. Enter the type of indirect rate (provisional, predetermined, final or fixed) that will be in effect during the funding period, the estimated amount of the base to which the rate is applied, and the total indirect expense.

3. Project Summary/Abstract

Clearly mark this separate page with the applicant name as shown in item 5 of the SF 424, the priority area number as shown at the top of the SF 424, and the title of the project as shown in item 11 of the SF 424. The summary description should not exceed 300 words. These 300 words become part of the computer database on each project.

Provide a summary description that accurately and concisely reflects the proposal. The summary should describe the objectives of the project, the approaches to be used and the expected outcomes. The description should also include a list of major products that will result from the proposed project, such as software packages, materials, management procedures, data collection instruments, training packages, or videos (please note that audiovisuals must be closed captioned and audio described). The project summary description, together with the information on the SF 424, will constitute the project “abstract.” This is a major source of information about the proposed project and is usually the first part of the application that the reviewers read in evaluating the application.

4. Project Description

The Project Description is a very important part of an application. It should be clear, concise, and address the specific requirements mentioned under the priority area description in part IV. The narrative should also provide information concerning how the application meets the evaluation criteria, using the following headings:

(a) Objectives and Need for Assistance;

(b) Results and Benefits Expected;

(c) Approach;

(d) Organization Profile; and

(e) Budget and Budget Justification

The specific information to be included under each of these headings is described in section E of part III, General Instructions for the Uniform Project Description, and under part IV, and Evaluation Criteria.

The narrative should be typed double-spaced on a single-side of an 8½″ x 11″ plain white paper, with 1″ margins on all sides, using black print no smaller than 12 pitch or 12 point size. All pages of the narrative (including charts, references/footnotes, tables, maps, exhibits, etc.) must be sequentially numbered, beginning with “Objectives and Need for Assistance” as page number one. Applicants should not submit reproductions of larger size paper, reduced to meet the size requirement.

The length of the application, including the application forms and all attachments, should not exceed 75 pages. This will be strictly enforced. A page is a single side of an 8½″ x 11″ sheet of paper. Applicants are requested not to send pamphlets, brochures or other printed material along with their application as these pose copying difficulties. These materials, if submitted, will not be included in the review process if they exceed the 75-page limit. Each page of the application will be counted to determine the total length.

5. Part V—Assurances/Certifications

Applicants are required to file a SF 424B, Assurances—Non-Construction Programs and the Certification Regarding Lobbying. Both must be signed and returned with the application. Applicants must also provide certifications regarding: (1) Drug-Free Workplace Requirements and (2) Debarment and Other Responsibilities. These two certifications are self-explanatory. Copies of these assurances/certifications can be obtained from the ADD Web site (http://www.acf.dhhs.gov/programs/add) or by contacting Joan Rucker, ADD, 370 L'Enfant Promenade, SW., Washington, DC, 20447, 202/690-7898. These forms can be reproduced, as necessary. A duly authorized representative of the applicant organization must certify that the applicant is in compliance with these assurances/certifications. A signature on the SF 424 indicates compliance with the Drug Free Workplace Requirements, and Debarment and Other Responsibilities certifications, and need not be mailed back with the application.

D. Checklist for a Complete Application

The checklist below is for your use to ensure that your application package has been properly prepared.

__One original, signed and dated application, plus two copies.

__Application is from an organization that is eligible under the eligibility requirements defined in part IV under Program Description and Requirements.

__Application length does not exceed 75 pages, unless otherwise specified in the priority area description.

A complete application consists of the following items in this order:

__Application for Federal Assistance (SF 424, REV 4-92);

__A completed SPOC certification with the date of SPOC contact entered in line 16, page 1 of the SF 424 if applicable.

__Budget Information—Non-Construction Programs (SF 424A, REV 4-92);

__Budget justification for section B—Budget Categories;

__Proof of designation as lead agency;

__Table of Contents;

__Letter from the Internal Revenue Service, etc. to prove non-profit status, if necessary;

__Copy of the applicant's approved indirect cost rate agreement, if appropriate;

__Project Description (see part III, section E);

__Any appendices/attachments; Assurances—Non-Construction Programs (Standard Form 424B, REV 4-92);

__Certification Regarding Lobbying;

__Certification of Protection of Human Subjects, if necessary; and

__Certification of the Pro-Children Act of 1994 (Environmental Tobacco Smoke), signature on the application represents certification.

E. The Application Package

Each application package must include an original and two copies of the complete application. Each copy should be stapled securely (front and back if necessary) in the upper left-hand corner. All pages of the narrative (including charts, tables, maps, exhibits, etc.) must be sequentially numbered, beginning with page one. In order to facilitate handling, please do not use covers, binders or tabs. Do not include extraneous materials as attachments, such as agency promotion brochures, slides, tapes, film clips, minutes of meetings, survey instruments or articles of incorporation.

F. Paperwork Reduction Act of 1995 (Pub. L.104-13)

The Uniform Project Description information collection within this announcement is approved under the Uniform Project Description (0970-0139), Expiration Date 12/31/2003.

Public reporting burden for this collection of information is estimated to average 10 hours per response, including the time for reviewing instructions, gathering and maintaining the data needed, and reviewing the collection of information.

An agency may not conduct or sponsor, and a person is not required to respond to, a collection of information unless it displays a currently valid OMB control number.

Eligible State and Territory Applicants

1. Alabama

2. Arizona

3. California

4. Colorado

5. Connecticut

6. Delaware

7. Florida

8. Indiana

9. Iowa

10. North Dakota

11. Pennsylvania

12. South Dakota

13. Tennessee

14. Puerto Rico

Dated: May 19, 2003.
Patricia Morrissey,
Commissioner, Administration on Developmental Disabilities.

[FR Doc. 03-13871 Filed 6-2-03; 8:45 am]

BILLING CODE 4184-01-P